DEPARTMENT OF TRANSPORTATION

Office of the Secretary

Notice of Applications for Certificates of Public Convenience and Necessity and Foreign Air Carrier Permits Filed Under Subpart B (Formerly Subpart Q) During the Week Ending May 16, 2008

The following Applications for Certificates of Public Convenience and Necessity and Foreign Air Carrier Permits were filed under Subpart B (formerly Subpart Q) of the Department of Transportation's Procedural Regulations. (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0127.

Date Filed: May 14, 2008.

Due Date for Answers, Conforming Applications, or Motion To Modify Scope: May 30, 2008.

Description: Application of Kalitta Air, L.L.C. (Kalitta) for (1) a certificate of public convenience and necessity authorizing it to provide scheduled foreign air transportation of property and mail between a point or point(s) in the United States and a point or point(s) in China, via intermediate points, and beyond China to any point or points; (2) designation as the additional U.S.-flag all-cargo carrier permitted effective March 25, 2009; and (3) allocation of 10 of the 15 all-cargo frequencies that become available March 25, 2009.

Docket Number: DOT-OST-2008-0162.

Date Filed: May 15, 2008.

Due Date for Answers, Conforming Applications, or Motion to Modify Scope: June 5, 2008.

Description: Joint Application of Delta Air Lines, Inc. (“Delta”), Northwest Airlines, Inc. (“Northwest”) and Northwest's wholly-owned subsidiaries, Compass Airlines, Inc. (“Compass”) and Mesaba Aviation, Inc. (“Mesaba”) (collectively, the “Joint Applicants”) requesting that the Department transfer all of the certificates of public convenience and necessity, exemptions, statements of authorizations, frequency allocations, designations and related authorities held by Northwest, Compass, and Mesaba. The Joint Applicants also request the Department's approval of the final transfer of international authority that will occur upon the ultimate merger of Delta and Northwest.

Renee V. Wright,
Program Manager, Docket Operations,Federal Register Liaison.

[FR Doc. E8-14127 Filed 6-20-08; 8:45 am]

BILLING CODE 4910-9X-P